DEPARTMENT OF ENERGY

Federal Energy Regulatory Commission

Combined Notice of Filings #1

Take notice that the Commission received the following exempt wholesale generator filings:

Docket Numbers: EG22-27-000.

Applicants: El Sauz Ranch Wind, LLC.

Description: Notice of Self-Certification of Exempt Wholesale Generator Status of El Sauz Ranch Wind, LLC.

Filed Date: 12/6/21.

Accession Number: 20211206-5246.

Comment Date: 5 p.m. ET 12/27/21.

Take notice that the Commission received the following electric rate filings:

Docket Numbers: ER10-1521-006; ER10-1520-006; ER10-1522-005; ER20-2493-001.

Applicants: OTCF, LLC, Occidental Chemical Corporation, Occidental Power Services, Inc., Occidental Power Marketing, L.P.

Description: Occidental Power Marketing, L.P., et al. submits Supplement to June 29, 2021 Updated Market Power Analysis for the Central Regional.

Filed Date: 12/3/21.

Accession Number: 20211203-5127.

Comment Date: 5 p.m. ET 2/1/22.

Docket Numbers: ER19-13-000; ER19-1816-000; ER20-2265-000.

Applicants: Pacific Gas and Electric Company, Pacific Gas and Electric Company, Pacific Gas and Electric Company.

Description: Annual Formula Transmission Rate Update Filing for Rate Year 2022 of Pacific Gas and Electric Company.

Filed Date: 12/1/21.

Accession Number: 20211201-5328.

Comment Date: 5 p.m. ET 12/22/21.

Docket Numbers: ER20-2878-000.

Applicants: Pacific Gas and Electric Company.

Description: Wholesale Distribution Tariff for Rate Year 2022 of Pacific Gas and Electric Company.

Filed Date: 12/1/21.

Accession Number: 20211201-5330.

Comment Date: 5 p.m. ET 12/22/21.

Docket Numbers: ER21-1118-004.

Applicants: Louisville Gas and Electric Company.

Description: Compliance filing: SEEM Attachment S Compliance Filing to be effective 12/31/9998.

Filed Date: 12/7/21.

Accession Number: 20211207-5047.

Comment Date: 5 p.m. ET 12/28/21.

Docket Numbers: ER21-1154-001.

Applicants: ISO New England Inc., Fitchburg Gas and Electric Light Company.

Description: Compliance filing: ISO New England Inc. submits tariff filing per 35: FG&E, Docket No. ER21-1154; Amended Supplemental Order No. 864 Compliance Filing to be effective 1/1/2020.

Filed Date: 12/7/21.

Accession Number: 20211207-5114.

Comment Date: 5 p.m. ET 12/17/21.

Docket Numbers: ER21-1241-001.

Applicants: ISO New England Inc., New England Power Company.

Description: Compliance filing: ISO New England Inc. submits tariff filing per 35: New England Power; ER21-1241 Amended Order 864 Compliance Filing to be effective 1/1/2020.

Filed Date: 12/7/21.

Accession Number: 20211207-5094.

Comment Date: 5 p.m. ET 12/17/21.

Docket Numbers: ER21-2926-000.

Applicants: Caddo Wind, LLC.

Description: Filing Withdrawal: Withdraw of Supplement to Application for Market-Based Rate Authorization to be effective N/A.

Filed Date: 12/7/21.

Accession Number: 20211207-5142.

Comment Date: 5 p.m. ET 12/28/21.

Docket Numbers: ER22-306-001.

Applicants: Duke Energy Carolinas, LLC.

Description: Tariff Amendment: Errata Filing—DEF Revised Depreciation Rates to be effective 1/1/2022.

Filed Date: 12/7/21.

Accession Number: 20211207-5096.

Comment Date: 5 p.m. ET 12/28/21.

Docket Numbers: ER22-414-001.

Applicants: AES Marketing and Trading, LLC.

Description: Tariff Amendment: AES Marketing and Trading, LLC MBR Supplement to be effective 11/17/2021.

Filed Date: 12/7/21.

Accession Number: 20211207-5053.

Comment Date: 5 p.m. ET 12/28/21.

Docket Numbers: ER22-46-002.

Applicants: Parkway Generation Essex, LLC.

Description: Tariff Amendment: Response to Deficiency Letter to be effective 12/1/2021.

Filed Date: 12/6/21.

Accession Number: 20211206-5176.

Comment Date: 5 p.m. ET 12/27/21.

Docket Numbers: ER22-564-000.

Applicants: PJM Interconnection, L.L.C.

Description: § 205(d) Rate Filing: Original NSA, Service Agreement No. 6262; Queue No. K11 to be effective 11/4/2021.

Filed Date: 12/6/21.

Accession Number: 20211206-5206.

Comment Date: 5 p.m. ET 12/27/21.

Docket Numbers: ER22-566-000.

Applicants: Southern California Edison Company.

Description: Compliance filing: WDAT Storage Settlement Compliance Filing to be effective 6/15/2021.

Filed Date: 12/7/21.

Accession Number: 20211207-5066.

Comment Date: 5 p.m. ET 12/28/21.

Docket Numbers: ER22-567-000.

Applicants: Alabama Power Company.

Description: § 205(d) Rate Filing: Seminole Solar (Seminole I Solar) LGIA Filing to be effective 11/22/2021.

Filed Date: 12/7/21.

Accession Number: 20211207-5081.

Comment Date: 5 p.m. ET 12/28/21.

Docket Numbers: ER22-568-000.

Applicants: Alabama Power Company.

Description: § 205(d) Rate Filing: Seminole Solar (Seminole II Solar) LGIA Filing to be effective 11/22/2021.

Filed Date: 12/7/21.

Accession Number: 20211207-5082.

Comment Date: 5 p.m. ET 12/28/21.

Docket Numbers: ER22-569-000.

Applicants: Alabama Power Company.

Description: § 205(d) Rate Filing: Seminole Solar (Seminole III Solar) LGIA Filing to be effective 11/22/2021.

Filed Date: 12/7/21.

Accession Number: 20211207-5086.

Comment Date: 5 p.m. ET 12/28/21.

Docket Numbers: ER22-570-000.

Applicants: Alabama Power Company.

Description: § 205(d) Rate Filing: Seminole Solar (Seminole IV Solar) LGIA Filing to be effective 11/22/2021.

Filed Date: 12/7/21.

Accession Number: 20211207-5087.

Comment Date: 5 p.m. ET 12/28/21.

Docket Numbers: ER22-571-000.

Applicants: Assembly Solar I, LLC.

Description: § 205(d) Rate Filing: COC update 2021 to be effective 12/8/2021.

Filed Date: 12/7/21.

Accession Number: 20211207-5117.

Comment Date: 5 p.m. ET 12/28/21.

Docket Numbers: ER22-572-000.

Applicants: Assembly Solar II, LLC.

Description: § 205(d) Rate Filing: COC update 2021 to be effective 12/8/2021.

Filed Date: 12/7/21.

Accession Number: 20211207-5121.

Comment Date: 5 p.m. ET 12/28/21.

Docket Numbers: ER22-573-000.

Applicants: Assembly Solar III, LLC.

Description: § 205(d) Rate Filing: COC update 2021 to be effective 12/8/2021.

Filed Date: 12/7/21.

Accession Number: 20211207-5127.

Comment Date: 5 p.m. ET 12/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2021.
Kimberly D. Bose,
Secretary.

[FR Doc. 2021-26897 Filed 12-10-21; 8:45 am]

BILLING CODE 6717-01-P